DEPARTMENT OF TRANSPORTATION

Federal Aviation Administration

FAA's CORSIA Monitoring, Reporting & Verification Program

AGENCY: Federal Aviation Administration (FAA), DOT.

ACTION: Notice of availability.

SUMMARY: This notice announces the availability of FAA's CORSIA Monitoring, Reporting, and Verification Program. This voluntary program will fulfill the responsibilities of the United States under the Chicago Convention to implement the ICAO Standards and Recommended Practices for the monitoring, reporting, and verification of CO2 emissions from international flights pursuant to Annex 16, Volume IV—Carbon Offsetting and Reduction Scheme for International Aviation (CORSIA), of the Chicago Convention.

FOR FURTHER INFORMATION CONTACT: For technical questions concerning this program, contact Daniel Williams, Office of Environment and Energy, 800 Independence Avenue SW, Washington, DC 20591; telephone (202) 267-7988; email 9-AWA-CORSIA@faa.gov.

SUPPLEMENTARY INFORMATION: The CORSIA Monitoring, Reporting, and Verification (MRV) Program is a voluntary program for U.S. air carriers, commercial, and general aviation (e.g., those who operate under 14 CFR parts 91, 121, and 135) operators (collectively referred hereinafter as “operators”) to submit certain airplane CO2 emissions data to the FAA to enable the United States to establish uniformity with the CORSIA Standards and Recommended Practices (SARPs). In June 2018, the International Civil Aviation Organization (ICAO) adopted SARPs to implement CORSIA in the form of Annex 16, Volume IV to the Convention on International Civil Aviation. The United States supported the decision to adopt the CORSIA SARPS based on the understanding that CORSIA is the exclusive market-based measure applying to international aviation, and that CORSIA will ensure fair and reciprocal commercial competition by avoiding a patchwork of country- or regionally-based regulatory measures that are inconsistently applied, bureaucratically costly, and economically damaging. Furthermore, continued U.S. support for CORSIA assumes a high level of participation by other countries, particularly by countries with significant aviation activity, as well as a final CORSIA package that is acceptable to, and implementable by, the United States.

Under CORSIA, all ICAO Member States whose airplane operators undertake international flights will need to develop a MRV system for CO2 emissions from those international flights starting January 1, 2019. The requirement to monitor, report, and verify CO2 emissions is independent from offsetting, and the data reported by the States will be used for the calculation of the CORSIA's baselines.

The FAA's CORSIA MRV Program is intended to be the United States' MRV system for monitoring, reporting, and verification of U.S. airplane operator CO2 emissions from international flights. The offsetting of emissions under CORSIA, which may require rulemaking or other action, will be addressed at a future time.

An electronic version of the statement describing the CORSIA MRV Program is available on the FAA Office of Environment and Energy website at: https://www.faa.gov/about/office_org/headquarters_offices/apl/research/environmental_policy/.

Issued in Washington, DC, on March 7, 2019.
Kevin Welsh,
Executive Director, Office of Environment and Energy.

[FR Doc. 2019-04739 Filed 3-13-19; 8:45 am]

BILLING CODE 4910-13-P